DEPARTMENT OF HEALTH AND HUMAN SERVICES

Centers for Disease Control and Prevention

Meeting of the Community Preventive Services Task Force (Task Force)

AGENCY: Centers for Disease Control and Prevention (CDC), Department of Health and Human Services (HHS).

ACTION: Notice of meeting.

SUMMARY: The Centers for Disease Control and Prevention (CDC) within the Department of Health and Human Services announces the next meeting of the Community Preventive Services Task Force (Task Force) on October 18-19, 2017 in Atlanta, Georgia.

DATES: The meeting will be held on Wednesday, October 18, 2017 from 8:30 a.m. to 6:00 p.m. EDT and Thursday, October 19, 2017 from 8:30 a.m. to 1:00 p.m. EDT.

ADDRESSES: The Task Force Meeting will be held at the CDC Edward R. Roybal Campus, Centers for Disease Control and Prevention Headquarters (Building 19), 1600 Clifton Road NE., Atlanta, GA 30329. You should be aware that the meeting location is in a Federal government building; therefore, Federal security measures are applicable. For additional information, please see Roybal Campus Security Guidelines under SUPPLEMENTARY INFORMATION. Information regarding meeting logistics will be available on the Community Guide Web site (www.thecommunityguide.org) closer to the date of the meeting.

FOR FURTHER INFORMATION CONTACT: Onslow Smith, Center for Surveillance, Epidemiology and Laboratory Services; Centers for Disease Control and Prevention, 1600 Clifton Road NE., MS-E-69, Atlanta, GA 30329, phone: (404) 498-6778, email: CPSTF@cdc.gov.

SUPPLEMENTARY INFORMATION:

Meeting accessibility: This space-limited meeting is open to the public. All meeting attendees must register. To ensure completion of required security procedures and access to the CDC's Global Communications Center, U.S. citizens intending to attend in person must register by October 11, 2017. Non-U.S. citizens intending to attend in person must register by September 20, 2017. Failure to register by the dates identified could result in the inability to attend the Task Force meeting in person.

Those unable to attend the meeting in person are able to do so via Webcast. CDC will send the Webcast URL to registrants upon receipt of their registration. All meeting attendees must register by October 13, 2017 to receive the webcast information. CDC will email webcast information from the CPSTF@cdc.gov mailbox.

Public comment: A public comment period, limited to three minutes per person, will follow the Task Force's discussion of each systematic review. Individuals wishing to make public comments must indicate their desire to do so with their registration by providing their name, organizational affiliation, and the topic to be addressed (if known). Public comments will become part of the meeting summary. Public comment is not possible via Webcast.

Background on the Task Force: The Task Force is an independent, nonfederal panel whose members are appointed by the CDC Director. Task Force members represent a broad range of research, practice, and policy expertise in prevention, wellness, health promotion, and public health. The Task Force was convened in 1996 by the Department of Health and Human Services (HHS) to identify community preventive programs, services, and policies that increase healthy longevity, save lives and dollars, and improve Americans' quality of life. CDC is mandated to provide ongoing administrative, research, and technical support for the operations of the Task Force. During its meetings, the Task Force considers the findings of systematic reviews on existing research and practice-based evidence and issues recommendations. Task Force recommendations are not mandates for compliance or spending. Instead, they provide information about evidence-based options that decision makers and stakeholders can consider when they are determining what best meet the specific needs, preferences, available resources, and constraints of their jurisdictions and constituents. The Task Force's recommendations, along with the systematic reviews of the evidence on which they are based, are compiled in the Guide to Community Preventive Services (The Community Guide).

Matters proposed for discussion: Cardiovascular Disease Prevention (Mobile Health Interventions for Cardiovascular Disease Prevention); Diabetes Prevention and Control (Lifestyle Interventions to Reduce Risk of Gestational Diabetes); Nutrition (Gardening-Based Interventions to Increase Fruit and Vegetable Intake); Obesity Prevention and Control (School-based Diet and Physical Activity Interventions); and Women's Health (Primary Prevention of Intimate Partner Violence and Sexual Violence Among Youth). The agenda is subject to change without notice.

Roybal Campus Security Guidelines: The Edward R. Roybal Campus is the headquarters of the CDC and is located at 1600 Clifton Road NE., Atlanta, Georgia. The meeting is being held in a Federal government building; therefore, Federal security measures are applicable.

All meeting attendees must register by the dates outlined under Meeting Accessability. In planning your arrival time, please take into account the need to park and clear security. All visitors must enter the Edward R. Roybal Campus through the front entrance on Clifton Road. Vehicles may be searched, and the guard force will then direct visitors to the designated parking area. Upon arrival at the facility, visitors must present government-issued photo identification (e.g., a valid federal identification badge, state driver's license, state non-driver's identification card, or passport). Non-U.S. citizens must complete the required security paperwork prior to the meeting date and must present a valid passport, visa, Permanent Resident Card, or other type of work authorization document upon arrival at the facility. All persons entering the building must pass through a metal detector. CDC Security personnel will issue a visitor's ID badge at the entrance to Building 19. Visitors may receive an escort to the meeting room. All items brought to HHS/CDC are subject to inspection.

Dated: September 6, 2017.
Sandra Cashman,
Executive Secretary, Centers for Disease Control and Prevention.

[FR Doc. 2017-19203 Filed 9-8-17; 8:45 am]

BILLING CODE 4163-18-P